DEPARTMENT OF COMMERCE

Submission for OMB Review; Comment Request

The Department of Commerce will submit to the Office of Management and Budget (OMB) for clearance the following proposal for collection of information under the provisions of the Paperwork Reduction Act.

Agency: U.S. Census Bureau.

Title: 2020 Census New Construction Program.

OMB Control Number: 0607-XXXX.

Form Number(s): NC-F-100.

Type of request: Regular submission.

Number of respondents: varies.

Estimated number of respondents invited to the program: 32,000.

Estimated number of respondents who review the materials: 6,550.

Average Hours per Response: Varies.

Program invitation: 1 hour.

Participant material review: 47 hours.

Burden hours: Varies.

Program invitation: 32,000 hours.

Participant material review: 307,850 hours.

Stage of review | Estimated number of respondents | Estimated time per response (hours) | Total estimated hour burden
Program Invitation | 32,000 | 1 | 32,000
Participant Material Review | 6,550 | 47 | 307,850
Total |  |  | 339,850

Needs and Uses: The 2020 Census New Construction Program is one of the seven voluntary geographic partnership programs that collect geographic boundaries and residential addresses to update the U.S. Census Bureau's Master Address File/Topologically Integrated Geographic Encoding and Referencing database. In order to deliver questionnaires, locate residences, and tabulate statistics by localities, the Census Bureau must have accurate addresses and boundaries. The Census Bureau also uses its geographic database to link demographic data from surveys and the decennial census to locations and areas, such as cities, congressional and legislative districts, and counties.

The census block is the geographic building block for all Census Bureau geographic boundaries. Geographic programs such as the Redistricting Data Program update the boundaries of census blocks. The addresses collected in the 2020 Local Update of Census Addresses Operation (LUCA), the New Construction Program, and other geocoding processes place households in a specific census block.

While the geographic programs differ in requirements, time frame, and participants, the New Construction Program and the other geographic programs all follow the same basic process:

1. The Census Bureau invites eligible participants to the program.

2. If they elect to participate in the program, participants receive program materials, in this case, respondent guides, address templates, spatial data in PDF or shapefile format, and/or free customized mapping software.

3. Participants review the materials and submit their addresses in the Census Bureau's predefined format.

4. The Census Bureau updates its address list with updates from participants.

5. The Census Bureau uses its address list to conduct the 2020 Census and tabulate statistics.

The purpose of the New Construction Program is to account for new housing units, group quarters (GQs), and transitory locations for which construction is in progress during or after March 1, 2018 ¹ and completion is expected by Census Day, April 1, 2020. The Census Bureau collects city-style addresses for the newly built housing units, GQs, and transitory locations in blocks where the Census Bureau plans to mail the 2020 Census questionnaires and households are expected to use a self-response mode to complete the census.

¹ In response to a public comment on the 60-Day Federal Register Notice (FRN), the Census Bureau will accept new addresses from respondents from March 1, 2018 instead of March 2019.

The Census Bureau conducts LUCA and the New Construction Program as successive partnership operations to assure the completeness and accuracy of the Census Bureau's address list. These operations allow participating governments the opportunity to provide input to improve the Census Bureau's address list and to ensure accurate and complete enumeration of their communities.

LUCA and the New Construction Program are complementary, however, there is no dependency on either program for participation in the other.

• LUCA participants who agree to receive the address list for their jurisdiction receive Title 13 protected materials. Participants review the address list and submit their validated or revised address list to the Census Bureau between spring and summer 2018.

• The Census Bureau processes and validates the LUCA updates using a combination of independent address sources, such as the United States Postal Service's list of delivery addresses or the 2020 Census Address Canvassing operation. Upon completion of the LUCA address validations by April of 2019, the Census Bureau provides address-level feedback to partners, allowing them to appeal any determination made by the Census Bureau to the Office of Management and Budget (OMB) LUCA Appeals Office.

• In April 2019, the Census Bureau invites tribal, state, and local governments to designate a New Construction liaison to participate in the program. The Census Bureau will publish the list of eligible governments on the New Construction Program website by fall 2018. Eligible governments have addresses in areas of the country where the Census Bureau plans for a self-response enumeration strategy. The addresses in these areas are primarily city-style and mailable formats. The Census Bureau confines the scope of the New Construction Program to the submission of addresses for newly constructed living quarters that began or will begin construction in the year leading up to the census. Between September and October 2019,² tribal, state, and local governments identify addresses for housing units, GQs, and transitory locations for which construction is in progress during or after March 1, 2018 and that are expected to be closed to the elements (final roof, windows, and doors) and therefore potentially inhabitable by Census Day, April 1, 2020. No other updates, including streets or boundaries, will be accepted.

² The Census Bureau updates the New Construction schedule in the 30-Day FRN. In the previously published 60-Day FRN, participants were expected to complete this stage between June and August 2019.

Through the New Construction Program, the Census Bureau improves the accuracy and completeness of the address list used to conduct the 2020 Census by utilizing the local knowledge of tribal, state, and local governments. The Census Address List Improvement Act of 1994 (Pub. L. 103-430) strengthened the Census Bureau's partnership capabilities with participating governments by expanding the methods the Census Bureau uses to collect address information from participants.

The New Construction Program does not provide Title 13 protected addresses to participants, however, when participants submit address data for new housing to be included in the 2020 Census, the Census Bureau will protect the submitted data under Title 13, U.S.C. Section 9, which provides for the confidential treatment of census-related information, including individual address and structure coordinates. Participation in the New Construction Program is voluntary.

The New Construction Program includes four phases:

1. New Construction Program Invitation Phase.

2. New Construction Program Participant Review Materials.

3. New Construction Program Address Updates.

4. Closeout.

New Construction Program Invitation Phase

The Census Bureau will mail the New Construction Program invitation letter and registration form in April 2019 to approximately 32,000 eligible participants that include federally recognized American Indian tribal governments with reservations and/or off-reservation trust lands, states, and local governments. Based on the 2010 Census New Construction Program, the Census Bureau estimates 6,550 out of the 32,000 invited governments will participate. To participate, interested governments must designate a New Construction liaison and respond to the invitation package by completing and returning the registration form to the Census Bureau by July 19, 2019. Participants must also identify the format of the maps or spatial data that they wish to receive from the Census Bureau.

The Census Bureau collects the registration form from the government that wants to participate in the program and/or the reasons for non participation from those who cannot participate. Additionally, the Census Bureau collects the contact information of the official responding to the New Construction invitation and the person designated as the liaison. To prepare and submit their list of addresses, the New Construction Program liaisons can opt to receive:

• The Geographic Update Partnership Software (GUPS) and/or Census Bureau spatial data (downloadable or on CD/DVD).

• Reference PDF maps on CD/DVD.

Participants may also use their own software to create a computer-readable list of addresses in the prescribed format. Participants use the Census Bureau provided maps or spatial data as a reference for assigning census tract and block codes (geocodes) for each submitted address. The estimated time burden for the invitation stage is one hour per participant.

New Construction Program Participant Review Materials

In September 2019, the Census Bureau will deliver review materials to registered governments. New Construction liaisons will receive the materials in the format that they selected on the registration form. Participating governments are required to submit full address data for qualifying structures, including individual unit numbers for multiunit structures (e.g., Apt. 1, Apt. 2, Unit 1, and Unit 2), and geographic information such as the census tract and block numbers, or geographic coordinates.

The typical New Construction Program Participant Review Materials package contains the following:

• Cover Letter.

• Address List Template.

• GUPS Quick Start Guide.

• Digital Quick Start Guide.

• GUPS Digital Respondent Guide.

• Digital Respondent Guide.

• Read-me.txt file for GUPS.

• Read-me.txt file for Digital.

• Partnership Shapefiles.

Participants must submit their New Construction Program address list to the Census Bureau within 45 calendar days of receipt of the New Construction Program review materials. The New Construction Program addresses must be returned in the Census Bureau's predefined format, and each address must be geocoded or assigned to the census tract and block in which it is located as shown on the New Construction Program PDF or digital (shapefile) maps. This stage occurs in September 2019. The average estimated time burden to review, add, and submit the New Construction Program address list to the Census Bureau is 47 hours per participant.

New Construction Program Address Updates

From September through November 2019, the Census Bureau processes all files received from participants. Files that are submitted in the proper format and contain addresses with complete geocoding data are compared with the Census Bureau's census address list, extracted from the Master Address File. The Census Bureau verifies whether the addresses received were already in the Master Address File and mails decennial census forms to any participant-supplied addresses that were not in the census address list. The census enumeration process determines the final housing unit status and population for each unit.

Closeout

The Census Bureau provides a closeout email to governments that registered to participate and provided updates. Participating governments will not receive detailed feedback from the Census Bureau. In addition, the Census Bureau sends a thank you email or letter to governments that provided updates after the deadline. This documentation notifies them of the receipt of their submission but also informs the governments that the Census Bureau cannot use the submission for the New Construction Program. Closeout occurs between December 2019 and January 2020.

Affected Public: Tribal, state, and local governments.

Frequency: Once a decade.

Respondent's Obligation: Voluntary.

Legal Authority: Title 13, U.S.C., Section 141(a).

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-21698 Filed 10-4-18; 8:45 am]

BILLING CODE 3510-07-P